EXECUTIVE OFFICE OF THE PRESIDENT

Office of National Drug Control Policy

Designation of 10 Areas as High Intensity Drug Trafficking Areas

AGENCY: Office of National Drug Control Policy (ONDCP).

ACTION: Notice of HIDTA Designations.

SUMMARY: The Director of the Office of National Drug Control Policy designated 10 additional areas as High Intensity Drug Trafficking Areas (HIDTA) pursuant to 21 U.S.C. 1706. The new areas are (1) Montgomery and Powell Counties in Kentucky as part of the Appalachia HIDTA; (2) Charleston County in South Carolina and the Eastern Band of Cherokee Indian Reservation as part of the Atlanta/Carolinas HIDTA; (3) Atlantic County in New Jersey as part of the Liberty Mid-Atlantic HIDTA; (4) Allegheny, Beaver, and Washington Counties in Pennsylvania and Butler County in Ohio as part of the Ohio HIDTA; and (5) Mineral County in West Virginia as part of the Washington/Baltimore HIDTA.

FOR FURTHER INFORMATION CONTACT: Questions regarding this notice should be directed to Michael K. Gottlieb, National HIDTA Program Director, Office of National Drug Control Policy, Executive Office of the President, Washington, DC 20503; (202) 395-4868.

Dated: October 11, 2018.
Michael Passante,
Deputy General Counsel.

[FR Doc. 2018-22462 Filed 10-15-18; 8:45 am]

BILLING CODE 3280-F5-P